COMMISSION ON CIVIL RIGHTS

Notice of Public Meeting of the Iowa Advisory Committee to the U.S. Commission on Civil Rights

AGENCY: U.S. Commission on Civil Rights.

ACTION: Announcement of public meeting.

SUMMARY: Notice is hereby given, pursuant to the provisions of the rules and regulations of the U.S. Commission on Civil Rights (Commission) and the Federal Advisory Committee Act, that the Iowa Advisory Committee (Committee) to the U.S. Commission on Civil Rights will hold series of public business meetings via Zoom on Thursday November 14, 2024 from 3:00 p.m.-4:00 p.m.; Thursday December 12, 2024 from 3:00 p.m.-4:00 p.m.; Thursday January 9, 2025 from 3:00 p.m.-4:00 p.m. and Thursday February 13, 2025 from 3:00 p.m.-4:00 p.m. Central Time. The purpose of the meetings is for Committee members to have discussion and potential votes regarding the Iowa draft report.

DATES:

• Thursday, November 17, 2024 from 3:00 p.m.-4:00 p.m. Central Time

• Thursday, December 12, 2024 from 3:00 p.m.-4:00 p.m. Central Time

• Thursday, January 9, 2025 from 3:00 p.m.-4:00 p.m. Central Time

• Thursday, February 13, 2025 from 3:00 p.m.-4:00 p.m. Central Time

ADDRESSES: The meeting will be held via Zoom.

November 14th, December 12th, 2024 and January 9th, and February 13th 2025 Business Meetings

—Registration Link: https://www.zoomgov.com/webinar/register/WN_kDEmPTAGSf6SRFIkdrEuzA

—Join by Phone (Audio Only) 1-833-435-1820 USA Toll Free: Meeting ID: 161 597 4723

FOR FURTHER INFORMATION CONTACT: Mallory Trachtenberg, Designated Federal Officer, at mtrachtenberg@usccr.gov or 1-202-809-9618.

SUPPLEMENTARY INFORMATION: This committee meeting is available to the public through the registration link above. Any interested member of the public may listen to the meeting. An open comment period will be provided to allow members of the public to make a statement as time allows. Per the Federal Advisory Committee Act, public minutes of the meeting will include a list of persons who are present at the meeting. If joining via phone, callers can expect to incur regular charges for calls they initiate over wireless lines, according to their wireless plan. The Commission will not refund any incurred charges. Callers will incur no charge for calls they initiate over land-line connections to the toll-free telephone number. Closed captioning will be available. To request additional accommodations, please email Corrine Sanders, Support Specialist, at csanders@usccr.gov at least 10 business days prior to the meeting.

Members of the public are entitled to submit written comments; the comments must be received in the regional office within 30 days following the meeting. Written comments may be emailed to Mallory Trachtenberg, mtrachtenberg@usccr.gov. Persons who desire additional information may contact the Regional Programs Coordination Unit at (202) 809-9618.

Records of the meetings will be available via www.facadatabase.gov under the Commission on Civil Rights, Iowa Advisory Committee link. Persons interested in the work of this Committee are directed to the Commission's website, http://www.usccr.gov, or may contact the Regional Programs Coordination Unit at mtrachtenberg@usccr.gov.

Agenda

I. Welcome and Roll Call

II. Discussion and Potential Votes: Iowa Draft Report

III. Public Comment

IV. Adjournment

Dated: October 16, 2024.
David Mussatt,
Supervisory Chief, Regional Programs Unit.

[FR Doc. 2024-24268 Filed 10-18-24; 8:45 am]

BILLING CODE P